NUCLEAR REGULATORY COMMISSION

[Docket Nos. 72-12 AND 50-333; License No. DPR-59]

Entergy Nuclear Operations, Inc., James A. Fitzpatrick Nucelar Power Plant; Receipt of Request for Action Under 10 CFR 2.206

Notice is hereby given that by petition dated February 21, 2002, Mr. Timothy Judson of the Citizens Awareness Network, et al. (petitioner) has requested that the Nuclear Regulatory Commission (NRC) take action with regard to Entergy's James A. FitzPatrick Interim Spent Fuel Storage Installation (ISFSI).

The petitioner requests the following:

1. That the NRC order Entergy to suspend the dry cask storage program at the FitzPatrick reactor.

2. That the NRC require Entergy to:

• Demonstrate that the proposed fuel storage program presents no increased risks to the national security or worker or public health and safety beyond what is contemplated in the Certificate of Compliance and General License, pursuant to § 72.212(4)-(5);

• Submit its proposed design changes for technical review in the form of a license amendment application and seek regulatory approval for them pursuant to § 72.244;

• Evaluate its use of the HI-TRAC 100 transfer cask for ALARA standards, per part 50, Appendix I;

• Provide more substantial physical and structural protection of the irradiated fuel and ISFSI to satisfy the requirements of §§ 73.51, 73.55; and

• Demonstrate the use of the HI-STORM 100 can satisfy these requirements at FitzPatrick, or demonstrate countervailing and compelling reasons to utilize the HI-STORM 100 at FitzPatrick, as opposed to any other casks certified by NRC.

3. That all documents and information filed in relation to the selection of storage casks and the implementation of dry storage at FitzPatrick be put on the docket for public inspection.

4. That the Petition Review Board submit this petition to the NRC's Office of the Inspector General (OIG) for review of the Spent Fuel Project Office's compliance with regard to NRC regulations in terms of design changes, licensing, amendments, exemptions and ALARA in its permitting process relating to the use of dry cask storage at FitzPatrick. Additionally, that a review be conducted to determine whether NRC staff in the Spent Fuel Project Office are complicit or misguided in permitting design changes to these casks without submission of a license amendment.

5. That the NRC conduct an investigation to determine whether Entergy has deliberately circumvented the appropriate technical and regulatory review required to protect worker and public health and safety and the environment.

As the basis for this request, the petitioner states several safety concerns related to the design changes associated with the HI-STORM 100 cask design, as well as safety concerns related to national security.

The request is being treated pursuant to 10 CFR 2.206 of the Commission's regulations. The request has been referred to the Director of the Office of Nuclear Material Safety and Safeguards. As provided by § 2.206, appropriate action will be taken on this petition within a reasonable time. The petitioner participated in a telephone call with the Office of Nuclear Material Safety and Safeguards' Petition Review Board on March 29, 2002, to discuss the petition. The results of that discussion were considered in the Board's determination regarding the petitioner's request for immediate action and in establishing the schedule for review of the petition. By letter dated April 12, 2002, the Director denied the petitioner's request for immediate issuance of an order to suspend the dry cask storage program at the James A. FitzPatrick nuclear power plant. A copy of the petition is available for inspection in the Agencywide Documents Access and Management System (ADAMS), which provides text and image files of NRC's public documents. These documents may be accessed through the NRC's Public Electronic Reading Room on the Internet at http://www.nrc.gov/reading-rm/adams.html. If you do not have access to ADAMS or if there are problems in accessing the documents located in ADAMS, contact the NRC Public Document Room (PDR) Reference staff at 1-800-397-4209, 301-415-4737 or by e-mail to pdr@nrc.gov.

Dated at Rockville, Maryland, this 12th day of April, 2002.
For the Nuclear Regulatory Commission.
Margaret V. Federline,
Deputy Director, Office of Nuclear Material Safety and Safeguards.

[FR Doc. 02-9732 Filed 4-19-02; 8:45 am]

BILLING CODE 7590-01-P